NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a teleconference meeting of the Advisory Committee on the Medical Uses of Isotopes (ACMUI) on July 24, 2019, to discuss the NRC's Abnormal Occurrence Criteria and the ACMUI subcommittee's report on a draft guidance document. Meeting information, including a copy of the agenda and publicly available handouts, will be available at http://www.nrc.gov/reading-rm/doc-collections/acmui/meetings/2019.html. The agenda and handouts may also be obtained by contacting Ms. Kellee Jamerson using the contact information below.

Date and Time for Open Session: July 24, 2019, from 10:00 a.m. to 10:30 a.m. Eastern Standard Time (EST).

Date and Time for Closed Session: July 24, 2019, from 10:30 a.m. to 12:00 p.m. (EST). This session will be closed to discuss information of which the premature disclosure would likely significantly frustrate implementation of a proposed agency action.

Public Participation: Any member of the public who wishes to participate in the open session of the teleconference should contact Ms. Jamerson using the contact information below or may register for the GoToWebinar at https://attendee.gotowebinar.com/register/1516330288686216460 for the July 24, 2019, meeting.

FOR FURTHER INFORMATION CONTACT: Kellee Jamerson, email: Kellee.Jamerson@nrc.gov, telephone: (301) 415-7408.

Conduct of the Meeting

Dr. Christopher Palestro, ACMUI Chairman, will preside over the meeting. Dr. Palestro will conduct the meeting in a manner that will facilitate the orderly conduct of business. The following procedures apply to public participation in the meeting:

1. Persons who wish to provide a written statement should submit an electronic copy to Ms. Jamerson at the contact information listed above. All submittals must be received by July 19, 2019, three business days prior to the July 24, 2019, meeting, and must pertain to the topic on the agenda for the meeting.

2. Questions and comments from members of the public will be permitted during the meeting, at the discretion of the Chairman.

3. The draft transcript and meeting summary will be available on ACMUI's website http://www.nrc.gov/reading-rm/doc-collections/acmui/meetings/2019.html on or about September 5, 2019.

This meeting will be held in accordance with the Atomic Energy Act of 1954, as amended (primarily Section 161a); the Federal Advisory Committee Act (5 U.S.C. App); and the Commission's regulations in Title 10, U.S. Code of Federal Regulations part 7.

Dated: July 3, 2019.
Russell E. Chazell,
Federal Advisory Committee Management Officer.

[FR Doc. 2019-14516 Filed 7-8-19; 8:45 am]

BILLING CODE 7590-01-P